DEPARTMENT OF TRANSPORTATION

Federal Aviation Administration

14 CFR Part 39

[Docket No. FAA-2004-19761; Directorate Identifier 2003-NM-167-AD; Amendment 39-14039; AD 2005-07-15]

RIN 2120-AA64

Airworthiness Directives; Bombardier Model CL-600-2B19 (Regional Jet Series 100 & 440) Airplanes

AGENCY: Federal Aviation Administration (FAA), Department of Transportation (DOT).

ACTION: Final rule.

SUMMARY: The FAA is adopting a new airworthiness directive (AD) for certain Bombardier Model CL-600-2B19 (Regional Jet Series 100 and 440) airplanes. This AD requires modification of the Auxiliary Power Unit (APU) cooling air exhaust. This AD is prompted by reports of incomplete drainage of the APU enclosure. We are issuing this AD to prevent a negative pressure condition from developing in the APU enclosure when the APU is operating on the ground, which could create a potential fire hazard if flammable liquid leakage occurs inside the APU enclosure and cannot be drained overboard.

DATES: This AD becomes effective May 12, 2005.

The incorporation by reference of a certain publication listed in the AD is approved by the Director of the Federal Register as of May 12, 2005.

ADDRESSES: For service information identified in this AD, contact Bombardier, Inc., Canadair, Aerospace Group, P.O. Box 6087, Station Centre-ville, Montreal, Quebec H3C 3G9, Canada.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., Room PL-401, Washington, DC. This docket number is FAA-2004-19761; the directorate identifier for this docket is 2003-NM-167-AD.

FOR FURTHER INFORMATION CONTACT: James E. Delisio, Aerospace Engineer, Airframe and Propulsion Branch, ANE-171, FAA, New York Aircraft Certification Office, 1600 Stewart Avenue, suite 410, Westbury, New York 11590; telephone (516) 228-7321; fax (516) 794-5531.

SUPPLEMENTARY INFORMATION: The FAA proposed to amend 14 CFR part 39 with an AD for certain Bombardier Model CL-600-2B19 (Regional Jet Series 100 and 440) airplanes. That action, published in the Federal Register on December 7, 2004 (69 FR 70566), proposed to require modification of the Auxiliary Power Unit cooling air exhaust.

Comments

We provided the public the opportunity to participate in the development of this AD. We have considered the single comment that has been submitted on the proposed AD.

Request To Clarify Applicability

The commenter asks that the airplane serial numbers be listed in the applicability paragraph of the final rule, rather than referencing the service bulletin. The commenter states that this request is consistent with similar airworthiness directives and presents a quicker reference for establishing applicability.

We agree to provide further clarification in the applicability section of this final rule. Although the applicability section in the proposed AD already identifies the referenced service bulletin, which specifies the airplane serial numbers in the effectivity section, we have listed the serial numbers in the applicability section in paragraph (c) of this final rule.

Editorial Change/Clarification Regarding Appendix A of Bombardier Service Bulletin 601R-49-015

We changed all service bulletin references in this final rule from “Bombardier Service Bulletin S.B. 601R-49-015” to “Bombardier Service Bulletin 601R-49-015.” The letters “S.B.” are not part of the service bulletin number.

Note 1 of this final rule specifies that Avica Service Bulletin 10S145-49-01 and Canadair Kit Drawing K601R97150 are included as Appendix A of Bombardier Service Bulletin 601R-49-015. In paragraph (j) of this final rule, we have “excluded” Appendix A from the citation for Bombardier Service Bulletin 601R-49-015 for the purpose of incorporation by reference of the service bulletin. However, as stated in Note 1, our intent is that the references in Appendix A still be used as additional sources of service information for doing the modification specified in paragraph (f) of this final rule.

These changes were made to comply with the Office of the Federal Register's guidelines for material incorporated by reference.

Conclusion

We have carefully reviewed the available data, including the comment that has been submitted, and determined that air safety and the public interest require adopting the AD with the changes described previously. These changes will neither increase the economic burden on any operator nor increase the scope of the AD.

Costs of Compliance

This AD will affect about 120 airplanes of U.S. registry. The actions will take about 10 work hours per airplane, at an average labor rate of $65 per work hour. There is no charge for parts that may be required to perform the actions required by this AD. Based on these figures, the estimated cost of the AD for U.S. operators is $78,000, or $650 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-07-15 Bombardier, Inc. (Formerly Canadair): Amendment 39-14039. Docket No. FAA-2004-19761; Directorate Identifier 2003-NM-167-AD.

Effective Date

(a) This AD becomes effective May 12, 2005.

Affected ADs

(b) None.

Applicability

(c) This AD applies to Bombardier Model CL-600-2B19 (Regional Jet Series 100 and 440) airplanes; certified in any category; serial numbers 7003 through 7067 inclusive and 7069 through 7254 inclusive.

Unsafe Condition

(d) This AD is prompted by reports of incomplete drainage of the Auxiliary Power Unit (APU) enclosure. We are issuing this D to prevent a negative pressure condition from developing in the APU enclosure when the APU is operating on the ground, which could create a potential fire hazard if flammable fluid leakage occurs inside the APU enclosure and cannot be drained overboard.

Compliance

(e) You are responsible for having the actions required by this AD performed within the compliance times specified, unless the actions have already been done.

Modify APU Cooling Air Exhaust

(f) Within 2,000 flight hours after the effective date the AD, or within 16 months after the effective date of this AD, whichever occurs first: Modify the APU cooling air exhaust by doing all of the actions in the Accomplishment Instructions of Bombardier Service Bulletin 601R-49-015, dated November 6, 1998, except that submitting a comment sheet and a compliance sheet are not required by this AD.

Note 1: Bombardier Service Bulletin 601R-49-015, dated November 6, 1998, refers to Avica Service Bulletin 10S145-49-01, dated July 15, 1998, and Canadair Kit Drawing K601R97150, Rev NC, as additional sources of service information for doing the modification. The Avica service bulletin and the Canadair Kit Drawing are included as Appendix A of the Bombardier service bulletin.

Parts Installation

(g) As of the effective date of this AD, no person may install an APU enclosure having Canadair part number (P/N) 601R97150-13, or Avica P/N 15A104-101, on any airplane, unless he unit has been modified in accordance with paragraph (f) of this AD.

Alternative Methods of Compliance

(h) The Manager, New York Aircraft Certification Office, FAA, has the authority to approve alternative methods of compliance for this AD if requested using the procedures found in 14 CFR 39.19.

Related Information

(i) Canadian airworthiness directive CF-2002-21, dated March 21, 2002, also addresses the subject of this AD.

Materials Incorporated by Reference

(j) You must use Bombardier Service Bulletin 601R-49-015, excluding Appendix A, dated November 6, 1998, to perform the actions that are required by this AD, unless the AD specifies otherwise. The Director of the Federal Register approves the incorporation by reference of this document in accordance with 5 U.S.C. 552(a) and 1 CFR part 51. For copies of the service information, contact Bombardier, Inc., Canadair, Aerospace Group, P.O. Box 6087, Station Centre-ville, Montreal, Quebec H3C 3G9, Canada. You may view the Ad docket at the Docket Management Facility, U.S. Department of Transportation, 400 Seventh Street SW., room PL-401, Nassif Building, Washington, DC. To review copies of the service information go to the National Archives and Records Administration (NARA). For information on the availability of this material at the NARA, call (202) 741-6030, or go to http://www.archives.gov/federal_register/code_of_federal_regulations/ibr_locations.html.

Issued in Renton, Washington, on March 24, 2005.
Ali Bahrami,
Manager, Transport Airplane Directorate, Aircraft Certification Service.

[FR Doc. 05-6686 Filed 4-6-05; 8:45 am]

BILLING CODE 4910-13-M